DEPARTMENT OF COMMERCE

International Trade Administration

[A-570-912]

Certain New Pneumatic Off-the-Road Tires From the People's Republic of China: Final Results of Antidumping Duty Changed Circumstances Review

AGENCY: Enforcement and Compliance, International Trade Administration, Department of Commerce.

SUMMARY: On April 17, 2014, the Department of Commerce (“Department”) published its Preliminary Results of a changed circumstances review (“CCR”) of the antidumping duty order on certain new pneumatic off-the road (“OTR”) tires from the People's Republic of China (“PRC”).¹ The Department preliminarily determined that Shandong Linglong Tyre Co., Ltd. (“Shandong Linglong”) is the successor-in-interest to Zhaoyuan Leo Rubber Co., Ltd. (“Leo Rubber”) and invited parties to comment on the Preliminary Results. As no parties submitted subsequent comment, the Department is making no changes to the Preliminary Results.

¹ See Certain New Pneumatic Off-the-Road Tires from the People's Republic of China: Preliminary Results of Antidumping Duty Changed Circumstances Review, 79 FR 21731 (April 17, 2014) (“Preliminary Results”).

DATES: Effective Date: June 4, 2014.

FOR FURTHER INFORMATION CONTACT: Andrew Medley, AD/CVD Operations, Office III, Enforcement and Compliance, International Trade Administration, U.S. Department of Commerce, 1401 Constitution Avenue NW., Washington, DC 20230; telephone: 202-482-4987.

SUPPLEMENTARY INFORMATION:

Background

On September 4, 2008, the Department published in the Federal Register an antidumping duty order on OTR tires from the PRC.² Under the Order, Leo Rubber received the separate-rate respondent rate, as revised, of 12.83 percent.³

² See Certain New Pneumatic Off-the-Road Tires From the People's Republic of China: Notice of Amended Final Affirmative Determination of Sales at Less Than Fair Value and Antidumping Duty Order, 73 FR 51624 (September 4, 2008) (“Order”).

³ On August 30, 2012, the Department published in the Federal Register a final determination, under section 129 of the Uruguay Round Agreements Act (“URAA”), regarding the antidumping duty investigation on OTR Tires from the PRC. See Implementation of Determinations Under Section 129 of the Uruguay Round Agreements Act: Certain New Pneumatic Off-the-Road Tires; Circular Welded Carbon Quality Steel Pipe; Laminated Woven Sacks; and Light-Walled Rectangular Pipe and Tube From the People's Republic of China, 77 FR 52683 (August 30, 2012). As part the Department's final determination under section 129 of the URAA, Leo Rubber was assigned a revised cash deposit rate of 12.83 percent. Id., 73 FR at 51627.

On April 17, 2014, we made a preliminary finding that Shandong Linglong is the successor-in-interest to Leo Rubber and thus, should receive the same antidumping duty treatment with respect to OTR tires from the PRC as the former Leo Rubber.⁴ We also stated that interested parties had 30 days in which to request a hearing and submit case briefs.⁵ No party submitted case briefs. Thus, consistent with 19 CFR 351.216(e), we are issuing this final determination within 45 days of our preliminary finding.

⁴ See Preliminary Results, 79 FR at 21732.

⁵ Id.

Scope of the Order

The merchandise covered by this Order includes new pneumatic tires designed for off-the-road and off-highway use, subject to certain exceptions. The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. The HTSUS subheadings are provided for convenience and customs purposes only; the written product description of the scope of the order is dispositive.⁶

⁶ For a complete description of the Scope of the Order, see the Department's Memorandum to Melissa G. Skinner, Director, Office III, Antidumping and Countervailing Duty Operations, which was published concurrently with the Preliminary Results, and titled “Certain New Pneumatic Off-the-Road Tires from the People's Republic of China: Preliminary Successor-In-Interest Determination,” dated April 10, 2014, at “Scope of the Order.”

Final Results of Changed Circumstances Review

Because no parties submitted comments opposing the Department's Preliminary Results, and because there is no other information or evidence on the record that calls into question the Preliminary Results, the Department determines that Shandong Linglong is the successor-in-interest to Leo Rubber for the purpose of determining antidumping duty liability.

Instructions to U.S. Customs and Border Protection

The Department will instruct U.S. Customs and Border Protection to suspend liquidation and collect a cash deposit rate of 12.83 percent on all shipments of the subject merchandise produced and exported by Shandong Linglong and entered, or withdrawn from warehouse, for consumption, on or after the publication date of these results of changed circumstances review.⁷

⁷ See, e.g., Stainless Steel Plate in Coils From Belgium: Notice of Final Results of Antidumping Duty Changed Circumstances Review, 77 FR 21963 (April 12, 2012); see also Notice of Final Results of Antidumping Duty Changed Circumstances Review: Certain Frozen Warmwater Shrimp From Thailand, 75 FR 74684, 74685 (December 1, 2010).

Notification

This notice serves as a reminder to parties subject to administrative protective order (“APO”) of their responsibility concerning the disposition of proprietary information disclosed under APO in accordance with 19 CFR 351.306. Timely written notification of the return/destruction of APO materials or conversion to judicial protective order is hereby requested. Failure to comply with the regulations and terms of an APO is a sanctionable violation.

We are issuing and publishing these final results and notice in accordance with sections 751(b) and 777(i) of the Tariff Act of 1930, as amended, and 19 CFR 351.216 and 351.221(c)(3).

Dated: May 29, 2014.
Paul Piquado,
Assistant Secretary for Enforcement and Compliance.

[FR Doc. 2014-12993 Filed 6-3-14; 8:45 am]

BILLING CODE 3510-DS-P